DEPARTMENT OF TRANSPORTATION

Surface Transportation Board

[STB Finance Docket No. 34130]

RailAmerica, Inc.—Control Exemption—Kiamichi Holdings, Inc. and Kiamichi Railroad L.L.C.¹

¹ On December 5, 2001, a protective order was issued in this proceeding. The title reflected the expected participation of West Texas and Lubbock Railroad Company, Inc. (West Texas). Because West Texas will not, in fact, be a party to the transaction, the above title has been revised to reflect that fact.

AGENCY: Surface Transportation Board.

ACTION: Notice of exemption.

SUMMARY: Under 49 U.S.C. 10502, the Board exempts from the prior approval requirements of 49 U.S.C. 11323, et seq., the acquisition by RailAmerica, Inc. (RailAmerica or petitioner) of control of Kiamichi Holdings, Inc., and its subsidiary Class III rail carrier Kiamichi Railroad L.L.C. RailAmerica is a noncarrier holding company that controls two Class II and 23 Class III rail carriers. Petitioner has agreed to acquire the railroad subsidiaries of Kauri, Inc., pursuant to two notices of exemption and this petition for exemption.² RailAmerica requests expedited action on the exemption petition. The request is addressed in the Board's decision.

² On December 7, 2001, RailAmerica filed a notice of exemption to acquire control of the Alabama & Gulf Coast Railway L.L.C. See RailAmerica, Inc.-Control Exemption-New StatesRail Holdings, Inc. and Alabama & Gulf Coast Railway L.L.C., STB Finance Docket No. 34128 (STB served Dec. 28, 2001). Also on December 7, RailAmerica filed a notice of exemption to acquire control of Arizona Eastern Railway Company, Eastern Alabama Railway, Kyle Railroad Company, San Joaquin Valley Railroad Company, and SWKR Operating Co. See RailAmerica, Inc.-Control Exemption-StatesRail Acquisition Corp. and StatesRail, Inc., STB Finance Docket No. 34129 (STB served Dec. 28, 2001). Regarding another short line railroad company, RailAmerica filed a notice of exemption on November 28, 2001, to acquire control of ParkSierra Corp. See RailAmerica, Inc.-Control Exemption-ParkSierra Acquisition Corp. and ParkSierra Corp., STB Finance Docket No. 34100 (STB served Dec. 20, 2001).

DATES: The exemption will be effective on date of publication. Petitions for reconsideration must be filed by February 14, 2002.

ADDRESSES: Send an original and 10 copies of any pleadings referring to STB Finance Docket No. 34130 to: Surface Transportation Board, Office of the Secretary, Case Control Unit, 1925 K Street, NW, Washington, DC 20423-0001. In addition, send one copy of any pleadings to petitioner's representatives: Gary A. Laakso, Esq., 5300 Broken Sound Blvd., NW, Second Floor, Boca Raton, FL 33487, and Louis E. Gitomer, Esq., 1455 F Street, NW, Suite 225, Washington, DC 20005.

FOR FURTHER INFORMATION CONTACT: Joseph H. Dettmar (202) 565-1600. [TDD for the hearing impaired: 1-800-877-8339.]

SUPPLEMENTARY INFORMATION: Additional information is contained in the Board's decision. To purchase a copy of the full decision, write to, call, or pick up in person from: Dā 2 Dā Legal, 1925 K Street NW, Suite 405, Washington, DC 20006. Telephone: (202) 293-7776.

Board decisions and notices are available on our Web site at www.stb.dot.gov.

Decided: January 23, 2002.
By the Board, Chairman Morgan and Vice Chairman Burkes.
Vernon A. Williams,
Secretary.

[FR Doc. 02-2258 Filed 1-29-02; 8:45 am]

BILLING CODE 4915-00-P